DEPARTMENT OF TRANSPORTATION

Federal Aviation Administration

Fifth Meeting—RTCA Special Committee 220: Automatic Flight Guidance and Control

AGENCY: Federal Aviation Administration (FAA), DOT.

ACTION: Notice of RTCA Special Committee 220: Automatic Flight Guidance and Control meeting.

SUMMARY: The FAA is issuing this notice to advise the public of a meeting of RTCA Special Committee 220: Automatic Flight Guidance and Control.

DATES: The meeting will be held February 23-25, 2010. February 23rd-24th from 9 a.m. to 5 p.m. and February 25th from 9 a.m. to 2 p.m.

ADDRESSES: The meeting will be held at the Hilton Garden Inn Tucson Airport, 6575 South Country Club Road, Tucson, Arizona, USA 85706, Tel. +1-520-741-0505, Fax: +1-520-741-0510.

FOR FURTHER INFORMATION CONTACT: (1) RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 220: Automatic Flight Guidance and Control meeting. The agenda will include:

• Welcome/Agenda Overview

• MOPS General Status

• MOPS Part 23 inputs status

• MOPS Part 25/27 inputs status

• Breakout into individual MOPS sections WGs

• All-hands to Merge the MOPS sections WGs

• Report out from each MOPS WG: status, schedule, issues

• Establish Dates, Location, Agenda for Next Meeting, Other Business

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on January 15, 2010.
Francisco Estrada C.,
RTCA Advisory Committee.

[FR Doc. 2010-1287 Filed 1-22-10; 8:45 am]

BILLING CODE 4910-13-P